DEPARTMENT OF JUSTICE

Notice of Lodging of Consent Decree Under the Comprehensive Environmental Response, Compensation, and Liability Act

Notice is hereby given that on May 31, 2012, a proposed Consent Decree (the Consent Decree) in United States of America v. Minnie Moore Resources, Inc. et al, Civil Action No. 2:11-cv-00127-BLW, was lodged with the United States District Court for the District of Idaho.

In this action the United States sought reimbursement under Section 107 of CERCLA for past costs incurred at the Minnie Moore Mine Superfund Site (the Site), located in Blaine County, Idaho. The United States also sought a declaratory judgment under Section 113 of CERCLA for future costs to be incurred at the Site. Under the proposed Consent Decree, which is based on ability to pay, Minnie Moore Resources, Inc. has agreed to secure an environmental covenant to protect the remediation of the Site. The Consent Decree includes a covenant not to sue Minnie Moore Resources, Inc. pursuant to Sections 106 and 107 of CERCLA, 42 U.S.C. 9606 & 9607.

The Department of Justice will receive for a period of thirty (30) days from the date of this publication comments relating to the Consent Decree. Comments should be addressed to the Assistant Attorney General, Environment and Natural Resources Division, and either emailed to pubcomment-ees.enrd@usdoj.gov or mailed to P.O. Box 7611, U.S. Department of Justice, Washington, DC 20044-7611, and should refer to United States of America v. Minnie Moore Resources, Inc., DJ. Ref. 90-11-3-09515.

During the comment period, the Consent Decree may be examined on the following Department of Justice Web site: http://www.justice.gov/enrd/Consent_Decrees.html. A copy of the Consent Decree may also be obtained by mail from the Consent Decree Library, P.O. Box 7611, U.S. Department of Justice, Washington, DC 20044-7611 or by faxing or emailing a request to “Consent Decree Copy” (EESCDCopy.ENRD@usdoj.gov), fax no. (202) 514-0097, phone confirmation number (202) 514-5271. If requesting a copy from the Consent Decree Library, please enclose a check in the amount of $8.75 (25 cents per page reproduction cost) payable to the United States Treasury or, if by email or fax, please forward a check in that amount to the Consent Decree Library at the address given above.

Maureen Katz,
Deputy Section Chief, Environmental Enforcement Section, Environment and Natural Resources Division.

[FR Doc. 2012-13633 Filed 6-5-12; 8:45 am]

BILLING CODE 4410-15-P